DEPARTMENT OF TRANSPORTATION

Federal Aviation Administration

14 CFR Part 39

[Docket No. FAA-2011-0030; Directorate Identifier 2009-NM-183-AD; Amendment 39-16698; AD 2011-10-17]

RIN 2120-AA64

Airworthiness Directives; Airbus Model A300 and A310 Series Airplanes, and Model A300 B4-600, B4-600R, and F4-600R Series Airplanes, and Model C4-605R Variant F Airplanes (Collectively Called A300-600 Series Airplanes)

AGENCY: Federal Aviation Administration (FAA), Department of Transportation (DOT).

ACTION: Final rule.

SUMMARY: We are superseding three existing airworthiness directives (ADs) that apply to the products listed above. This AD results from mandatory continuing airworthiness information (MCAI) originated by an aviation authority of another country to identify and correct an unsafe condition on an aviation product. The MCAI describes the unsafe condition as:

The airworthiness limitations applicable to the Damage Tolerant Airworthiness Limitation Items (DT ALI) are currently listed in Airbus ALI Documents, which are referenced in the A300, A310, and A300-600 Airworthiness Limitations Section (ALS) Part 2. Airbus has recently revised the ALI Documents, which have been approved by the European Aviation Safety Agency (EASA).

* * * * *

The actions contained in these revised documents, which introduce more restrictive maintenance requirements and/or airworthiness limitations, have been identified as mandatory actions for continued airworthiness. * * *

The unsafe condition is fatigue cracking, damage, or corrosion in principal structural elements, which could result in reduced structural integrity of the airplane. We are issuing this AD to require actions to correct the unsafe condition on these products.

DATES: This AD becomes effective June 17, 2011.

The Director of the Federal Register approved the incorporation by reference of certain publications listed in this AD as of June 17, 2011.

The Director of the Federal Register approved the incorporation by reference of certain other publications listed in this AD as of January 14, 2008 (72 FR 69612, December 10, 2007).

The Director of the Federal Register approved the incorporation by reference of a certain other publication listed in this AD as of October 31, 2007 (72 FR 54536, September 26, 2007).

The Director of the Federal Register approved the incorporation by reference of certain other publications listed in this AD as of April 3, 2007 (72 FR 8604, February 27, 2007).

The Director of the Federal Register approved the incorporation by reference of a certain other publication listed in this AD as of August 9, 1996 (61 FR 35122, July 5, 1996).

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, FAA, Transport Airplane Directorate, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on January 25, 2011 (76 FR 4260), and proposed to supersede AD 2007-04-11, Amendment 39-14943 (72 FR 8604, February 27, 2007); AD 2007-20-03, Amendment 39-15213 (72 FR 54536, September 26, 2007); and AD 2007-25-02, Amendment 39-15283 (72 FR 69612, December 10, 2007). That NPRM proposed to correct an unsafe condition for the specified products. The MCAI states:

The airworthiness limitations applicable to the Damage Tolerant Airworthiness Limitation Items (DT ALI) are currently listed in Airbus ALI Documents, which are referenced in the A300, A310, and A300-600 Airworthiness Limitations Section (ALS) Part 2. Airbus has recently revised the ALI Documents, which have been approved by the European Aviation Safety Agency (EASA).

—Airbus A300 ALI Document issue 04.

—Airbus A310 ALI Document issue 07 and

—Airbus A300-600 ALI Document issue 12

The actions contained in these revised documents, which introduce more restrictive maintenance requirements and/or airworthiness limitations, have been identified as mandatory actions for continued airworthiness. EASA issued ADs 2006-0071, 2006-0260, and 2006-0374 [which correspond to FAA ADs 2007-04-11, 2007-25-02, and 2007-20-03] to require compliance with the maintenance requirements and associated airworthiness limitations defined in previous issues of these Airbus ALI documents.

For the reason described above, [the] EASA AD supersedes existing ADs 2006-0071, 2006-0260, and 2006-0374 and requires an update to the approved aircraft maintenance programme and compliance with the maintenance requirements and associated airworthiness limitations defined in the Airbus ALI Documents listed above.

The unsafe condition is fatigue cracking, damage, or corrosion in principal structural elements, which could result in reduced structural integrity of the airplane. The required actions include revising the Airworthiness Limitations section of the Instructions for Continued Airworthiness to incorporate new and revised structural inspections and inspection intervals. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 206 products of U.S. registry.

The actions that are required by AD 2007-04-11, AD 2007-20-03, and AD 2007-25-02, and retained in this proposed AD, take about 1 work hour per product. The average labor rate is $85 per work-hour. Based on these figures, we estimate the cost of those actions on U.S. operators to be $85 per product.

We estimate that it will take about 1 work-hour per product to comply with the new basic requirements of this AD. The average labor rate is $85 per work-hour. Based on these figures, we estimate the cost of this AD to the U.S. operators to be $17,510, or $85 per product.

Authority for This Rulemaking

Title 49 of the United States Code specifies the FAA's authority to issue rules on aviation safety. Subtitle I, section 106, describes the authority of the FAA Administrator. “Subtitle VII: Aviation Programs,″ describes in more detail the scope of the Agency's authority.

We are issuing this rulemaking under the authority described in “Subtitle VII, Part A, Subpart III, Section 44701: General requirements.″ Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action″ under Executive Order 12866;

2. Is not a “significant rule″ under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14943 (72 FR 8604, February 27, 2007); Amendment 39-15213 (72 FR 54536, September 26, 2007); and Amendment 39-15283 (72 FR 69612, December 10, 2007); and adding the following new AD:

2011-10-17 Airbus: Amendment 39-16698. Docket No. FAA-2011-0030; Directorate Identifier 2009-NM-183-AD.

Effective Date

(a) This airworthiness directive (AD) becomes effective June 17, 2011.

Affected ADs

(b) This AD supersedes AD 2007-04-11, Amendment 39-14943; AD 2007-20-03, Amendment 39-15213; and AD 2007-25-02, Amendment 39-15283.

Applicability

(c) This AD applies to all Airbus model airplanes identified in paragraphs (c)(1), (c)(2), and (c)(3) of this AD, certificated in any category.

(1) Model A300 B2-1A, B2-1C, B4-2C, B2K-3C, B4-103, B2-203, and B4-203 airplanes.

(2) Model A310-203, -204, -221, -222, -304, -322, -324, and -325 airplanes.

(3) Models A300 B4-601, B4-603, B4-620, B4-622, B4-605R, B4-622R, F4-605R, and F4-622R airplanes, and Model A300 C4-605R Variant F airplanes.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (t)(1) of this AD. The request should include a description of changes to the required inspections that will ensure the continued damage tolerance of the affected structure. The FAA has provided guidance for this determination in Advisory Circular (AC) 25-1529-1.

Subject

(d) Air Transport Association (ATA) of America Codes 52: Doors; 53: Fuselage; 54: Nacelles/pylons; 55: Stabilizers; 57: Wings; and 71: Powerplant (for Model A300-600 only).

Reason

(e) The mandatory continuing airworthiness information (MCAI) states:

The airworthiness limitations applicable to the Damage Tolerant Airworthiness Limitation Items (DT ALI) are currently listed in Airbus ALI Documents, which are referenced in the A300, A310, and A300-600 Airworthiness Limitations Section (ALS) Part 2. Airbus has recently revised the ALI Documents, which have been approved by the European Aviation Safety Agency (EASA).

* * * * *

The actions contained in these revised documents, which introduce more restrictive maintenance requirements and/or airworthiness limitations, have been identified as mandatory actions for continued airworthiness. * * *

The unsafe condition is fatigue cracking, damage, or corrosion in principal structural elements, which could result in reduced structural integrity of the airplane.

Compliance

(f) You are responsible for having the actions required by this AD performed within the compliance times specified, unless the actions have already been done.

Restatement of Certain Requirements of AD 2007-04-11

(g) Within one year after August 9, 1996 (the effective date of AD 96-13-11), replace the revision of the maintenance program with the inspections, inspection intervals, repairs, and replacements defined in Airbus Industrie A300 Supplemental Structural Inspection Document, Revision 2, dated June 1994. Accomplish the actions specified in the service bulletins identified in Section 6, “SB Reference List,″ in Airbus Industrie A300 Supplemental Structural Inspection Document, Revision 2, dated June 1994, at the times specified in those service bulletins. The actions are to be accomplished in accordance with those service bulletins. Accomplishing the initial ALI tasks required by paragraph (s) of this AD terminates the actions required by this paragraph.

(1) For airplanes that have exceeded the threshold specified in any of the service bulletins identified in Section 6, “SB Reference List,″ in Airbus Industrie A300 Supplemental Structural Inspection Document, Revision 2, dated June 1994: Accomplish the actions specified in those service bulletins within the grace period specified in those service bulletins. The grace period is to be measured from August 9, 1996.

(2) For airplanes that have exceeded the threshold specified in any of the service bulletins identified in Section 6, “SB Reference List,″ in Airbus Industrie A300 Supplemental Structural Inspection Document, Revision 2, dated June 1994, and a grace period is not specified in that service bulletin: Accomplish the actions specified in that service bulletin within 1,500 flight cycles after August 9, 1996.

Revision of the Maintenance Inspection Program

(h) For airplanes identified in paragraph (c)(1) of this AD: Within 12 months after April 3, 2007 (the effective date of AD 2007-04-11), replace the revision of the maintenance program required by paragraph (g) of this AD with the supplemental structural inspections, inspection intervals, and repairs defined in Airbus A300 Airworthiness Limitation Items Document SEM2/95A.1090/05, Issue 3, dated September 2005, as revised by Airbus A300 Temporary Revision (TR) 3.1, dated April 2006. Accomplish the actions specified in Airbus A300 Airworthiness Limitation Items Document SEM2/95A.1090/05, Issue 3, dated September 2005, as revised by Airbus A300 TR 3.1, dated April 2006, at the times specified in that ALI, except as provided by paragraph (i) of this AD. The actions must be accomplished in accordance with Airbus A300 Airworthiness Limitation Items Document SEM2/95A.1090/05, Issue 3, dated September 2005, as revised by Airbus A300 TR 3.1, dated April 2006. Accomplishing the initial ALI tasks required by paragraph (s) of this AD terminates the actions required by this paragraph.

(i) For airplanes identified in paragraph (c)(1) of this AD that have exceeded the threshold or intervals specified in the Airbus A300 Airworthiness Limitation Items Document SEM2/95A.1090/05, Issue 3, dated September 2005, for the application tolerance on the first interval for new and revised requirements and have exceeded 50 percent of the intervals specified in sections D and E of Airbus A300 Airworthiness Limitation Items Document SEM2/95A.1090/05, Issue 3, dated September 2005: Do the actions within 6 months after April 3, 2007.

Corrective Actions

(j) Damaged, cracked, or corroded structure detected during any inspection done in accordance with the Airbus A300 Airworthiness Limitation Items Document SEM2/95A.1090/05, Issue 3, dated September 2005, must be repaired, before further flight, in accordance with Airbus A300 Airworthiness Limitation Items Document SEM2/95A.1090/05, Issue 3, dated September 2005, as revised by Airbus A300 TR 3.1, dated April 2006, except as provided by paragraph (k) of this AD; or other data meeting the certification basis of the airplane which is approved by the Manager, International Branch, ANM-116, Transport Airplane Directorate, FAA; or by the European Aviation Safety Agency (EASA) (or its delegated agent).

(k) Where the Airbus A300 Airworthiness Limitation Items Document SEM2/95A.1090/05, Issue 3, dated September 2005, specifies contacting Airbus for appropriate action: Before further flight, repair the damaged, cracked, or corroded structure using a method approved by either the Manager, International Branch, ANM-116; or the EASA (or its delegated agent).

No Fleet Sampling

(l) Although Airbus A300 Airworthiness Limitation Items Document SEM2/95A.1090/05, Issue 3, dated September 2005, specifies to do a “Sampling Concept″ in section B, this AD prohibits the use of such a sampling program and requires all affected airplanes of the fleet to be inspected.

No Reporting

(m) Although Airbus A300 Airworthiness Limitation Items Document SEM2/95A.1090/05, Issue 3, dated September 2005, specifies to submit certain information to the manufacturer, this AD does not include that requirement.

Restatement of Requirements of AD 2007-20-03

Actions and Compliance

(n) For airplanes identified in paragraph (c)(3) of this AD: Within 3 months after October 31, 2007 (the effective date AD 2007-20-03), revise the ALS of the Instructions for Continued Airworthiness to incorporate Airbus A300-600 Airworthiness Limitation Items Document AI/SE-M2/95A.0502/06, Issue 11, dated April 2006. The tolerance (grace period) for compliance (specified in paragraph 2 of Section B—Program Rules) with Airbus A300-600 Airworthiness Limitation Items Document AI/SE-M2/95A.0502/06, Issue 11, dated April 2006, is within 2,000 flight cycles after October 31, 2007, provided that none of the following is exceeded. Accomplishing the initial ALI tasks required by paragraph (s) of this AD terminates the actions required by this paragraph.

(1) Thresholds or intervals in the operator's current approved maintenance schedule that are taken from a previous ALI issue, if existing, and are higher than or equal to those given in Airbus A300-600 Airworthiness Limitation Items Document AI/SE-M2/95A.0502/06, Issue 11, dated April 2006.

(2) 8 months after October 31, 2007.

(3) 50 percent of the intervals given in Airbus A300-600 Airworthiness Limitation Items Document AI/SE-M2/95A.0502/06, Issue 11, dated April 2006.

(4) Any application tolerance given in the task description of Airbus A300-600 Airworthiness Limitation Items Document AI/SE-M2/95A.0502/06, Issue 11, dated April 2006.

Restatement of Requirements of AD 2007-25-02

Revision of the Airworthiness Limitations Section (ALS) of the Instructions for Continued Airworthiness (ICA)

(o) For airplanes identified in paragraph (c)(2) of this AD: Within 3 months after January 14, 2008 (the effective date of AD 2007-25-02), do the actions specified in paragraphs (o)(1) and (o)(2) of this AD. Accomplishing the initial ALI tasks required by paragraph (s) of this AD terminates the actions required by this paragraph.

(1) Revise the ALS of the ICA to incorporate the structural inspections and inspection intervals defined in Airbus A310 Airworthiness Limitations Items Document, AI/SE-M2/95A.0263/06, Issue 6, dated April 2006 (approved by the EASA on May 31, 2006). Accomplish the actions specified in Airbus A310 Airworthiness Limitations Items Document, AI/SE-M2/95A.0263/06, Issue 6, dated April 2006, at the times specified in Airbus A310 Airworthiness Limitations Items Document, AI/SE-M2/95A.0263/06, Issue 6, dated April 2006, except as provided by paragraph (p) of this AD. Thereafter, except as provided by paragraphs (o)(2) and (t)(1) of this AD, no alternative structural inspection intervals may be approved. The actions specified in Airbus A310 Airworthiness Limitations Items Document, AI/SE-M2/95A.0263/06, Issue 6, dated April 2006, must be accomplished in accordance with Airbus A310 Airworthiness Limitations Items Document, AI/SE-M2/95A.0263/06, Issue 6, dated April 2006.

(2) Revise the ALS of the ICA to incorporate the new and revised structural inspections and inspection intervals defined in Airbus Temporary Revision (TR) 6.1, dated November 2006 (approved by the EASA on December 12, 2006), to Airbus A310 Airworthiness Limitations Items Document, AI/SE-M2/95A.0263/06, Issue 6, dated April 2006. Thereafter, except as provided by paragraph (t)(1) of this AD, no alternative structural inspection intervals may be approved.

Exception to Issue 6 of the ALI

(p) The tolerance (grace period) for compliance with Airbus A310 Airworthiness Limitations Items Document, AI/SE-M2/95A.0263/06, Issue 6, dated April 2006, is within 1,500 flight cycles after January 14, 2008, provided that none of the following is exceeded.

(1) Thresholds or intervals in the operator's current approved maintenance schedule that are taken from a previous ALI issue, if existing, and are higher than or equal to those given in Airbus A310 Airworthiness Limitations Items Document, AI/SE-M2/95A.0263/06, Issue 6, dated April 2006.

(2) 18 months after January 14, 2008.

(3) 50 percent of the intervals given in Airbus A310 Airworthiness Limitations Items Document, AI/SE-M2/95A.0263/06, Issue 6, dated April 2006.

(4) Any application tolerance specified in Section D of Airbus A310 Airworthiness Limitations Items Document, AI/SE-M2/95A.0263/06, Issue 6, dated April 2006.

Corrective Actions

(q) Damaged, cracked, or corroded structure detected during any inspection done in accordance with Airbus A310 Airworthiness Limitations Items Document, AI/SE-M2/95A.0263/06, Issue 6, dated April 2006, must be repaired, before further flight, in accordance with Airbus A310 Airworthiness Limitations Items Document, AI/SE-M2/95A.0263/06, Issue 6, dated April 2006; or in accordance with other data meeting the certification basis of the airplane that has been approved by either the Manager, International Branch, ANM-116, or the EASA (or its delegated agent). Where Airbus A310 Airworthiness Limitations Items Document, AI/SE-M2/95A.0263/06, Issue 6, dated April 2006, specifies to contact Airbus for appropriate action: Before further flight, repair the damaged, cracked, or corroded structure using a method approved by either the Manager, International Branch, ANM-116, or the EASA (or its delegated agent).

Reporting Requirement

(r) If any damage that exceeds the allowable limits specified in Airbus A310 Airworthiness Limitations Items Document, AI/SE-M2/95A.0263/06, Issue 6, dated April 2006, is detected during any inspection required by this AD: At the applicable time specified in paragraph (r)(1) or (r)(2) of this AD, submit a report of the finding to Airbus, Customer Service Directorate, Attn: Department Manager Maintenance Engineering, 1 Rond Point Maurice Bellonte, 31707 Blagnac Cedex, France; e-mail: sched.maint@airbus.com. The report must include the ALI task reference, airplane serial number, the number of flight cycles and flight hours on the airplane, identification of the affected structure, location and description of the finding including its size and orientation, and the circumstance of detection and inspection method used.

(1) If the inspection was done after January 14, 2008: Submit the report within 30 days after the inspection.

(2) If the inspection was accomplished prior to January 14, 2008: Submit the report within 30 days after January 14, 2008.

New Requirements of This AD

Revision of the ALS of the Instructions for ICA

(s) Within 3 months after the effective date of this AD: Revise the maintenance program to incorporate the structural inspections and inspection intervals defined in the applicable ALI document listed in Table 1 of this AD. Thereafter, except as provided by paragraph (t)(1) of this AD, no alternative structural inspections and inspection intervals may be approved. The actions must be accomplished in accordance with the applicable issue of the ALI. The initial ALI tasks must be done at the times specified in the applicable ALI document listed in Table 1 of this AD. Accomplishing the applicable initial ALI tasks constitutes terminating action for the requirements of paragraphs (g) through (r) of this AD for that airplane only.

Table 1—Airworthiness Limitations Items Document
Model | Document | Issue | Date
A300 | Airbus A300 Airworthiness Limitation Items Document AI/SE-M2/95A.1308/07 | 4 | June 2008.
A310 | Airbus A310 Airworthiness Limitation Items Document AI/SE-M2/95A.1309/07 | 7 | June 2008.
A300-600 | Airbus A300-600 Airworthiness Limitation Items Document AI/SE-M2/95A.1310/07 | 12 | June 2008.

FAA AD Differences

Note 2: This AD differs from the MCAI and/or service information as follows:

Where the MCAI includes a compliance time of “from the effective date of this AD,″ we have determined that a compliance time of “within 3 months after the effective date of this AD″ is appropriate. The manufacturer and EASA agree with this difference in compliance time.

Other FAA AD Provisions

(t) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, FAA, Transport Airplane Directorate, 1601 Lind Avenue, SW., Renton, Washington 98057-3356; telephone (425) 227-2125; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2007-04-11, Amendment 39-14943; AD 2007-20-03, Amendment 39-15213; and AD 2007-25-02, Amendment 39-15283; as applicable; are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(u) Refer to MCAI EASA Airworthiness Directive 2009-0155, dated July 17, 2009; Airbus A300-600 Airworthiness Limitation Items Document AI/SE-M2/95A.0502/06, Issue 11, dated April 2006; Airbus A300-600 Airworthiness Limitation Items Document AI/SE-M2/95A.1310/07, Issue 12, dated June 2008; Airbus A300 Airworthiness Limitation Items Document SEM2/95A.1090/05, Issue 3, dated September 2005, as revised by Airbus A300 Temporary Revision 3.1, dated April 2006; Airbus A300 Airworthiness Limitation Items Document AI/SE-M2/95A.1308/07, Issue 4, dated June 2008; Airbus A310 Airworthiness Limitations Items Document, AI/SE-M2/95A.0263/06, Issue 6, dated April 2006; Airbus Temporary Revision 6.1, dated November 2006; Airbus A310 Airworthiness Limitation Items Document, AI/SE-M2/95A.1309/07, Issue 7, dated June 2008; and Airbus Industrie A300 Structural Inspection Document, Revision 2, dated June 1994; for related information.

Material Incorporated by Reference

(v) You must use the service information contained in Table 2 of this AD to do the actions required by this AD, as applicable, unless the AD specifies otherwise.

Table 2—All Material Incorporated by Reference
Document | Issue/revision | Date
Airbus A300 Airworthiness Limitation Items Document AI/SE-M2/95A.1308/07 | 4 | June 2008.
Airbus A300 Airworthiness Limitation Items Document SEM2/95A.1090/05, as revised by Airbus A300 TR 3.1, dated April 2006 | 3 | September 2005.
Airbus A300 Airworthiness Limitation Items, Document SEM2/95A.1090/05, Temporary Revision 3.1, including attachment, dated April 2006, and including attachments dated September 2005 | Original | April 2006.
Airbus Temporary Revision 6.1, including pages 1 and 2 of Section D and page 1 of Section E, dated November 2006, to Airbus A310 Airworthiness Limitations Items Document, AI/SE-M2/95A.0263/06, Issue 6, dated April 2006 | Original | November 2006.
Airbus A310 Airworthiness Limitation Items Document AI/SE-M2/95A.1309/07 | 7 | June 2008.
Airbus A310 Airworthiness Limitations Items Document AI/SE-M2/95A.0263/06 | 6 | April 2006.
Airbus A300-600 Airworthiness Limitation Items Document AI/SE-M2/95A.1310/07 | 12 | June 2008.
Airbus A300-600 Airworthiness Limitation Items Document AI/SE-M2/95A.0502/06 | 11 | April 2006.
Airbus Industrie A300 Structural Inspection Document | 2 | June 1994.

(1) The Director of the Federal Register approved the incorporation by reference of the service information contained in Table 3 of this AD under 5 U.S.C. 552(a) and 1 CFR part 51.

Table 3—New Material Incorporated by Reference
Document | Issue | Date
Airbus A300 Airworthiness Limitation Items Document AI/SE-M2/95A.1308/07 | 4 | June 2008.
Airbus A310 Airworthiness Limitation Items Document AI/SE-M2/95A.1309/07 | 7 | June 2008.
Airbus A300-600 Airworthiness Limitation Items Document AI/SE-M2/95A.1310/07 | 12 | June 2008.

(2) The Director of the Federal Register previously approved the incorporation by reference of Airbus A310 Airworthiness Limitations Items Document, AI/SE-M2/95A.0263/06, Issue 6, dated April 2006; and Airbus Temporary Revision 6.1, including pages 1 and 2 of Section D and page 1 of Section E, dated November 2006, to Airbus A310 Airworthiness Limitations Items Document, AI/SE-M2/95A.0263/06, Issue 6, dated April 2006; on January 14, 2008 (72 FR 69612, December 10, 2007).

(3) The Director of the Federal Register previously approved the incorporation by reference of Airbus A300-600 Airworthiness Limitation Items Document AI/SE-M2/95A.0502/06, Issue 11, dated April 2006, on October 31, 2007 (72 FR 54536, September 26, 2007).

(4) The Director of the Federal Register previously approved the incorporation by reference of Airbus A300 Airworthiness Limitations Items Document SEM2/95A.1090/05, Issue 3, dated September 2005, as revised by Airbus A300 Airworthiness Limitation Items Document SEM2/95A.1090/05, Temporary Revision 3.1, including attachment, dated April 2006, and including attachments, dated September 2005, on April 3, 2007 (72 FR 8604, February 27, 2007).

(5) The Director of the Federal Register previously approved the incorporation by reference of Airbus Industrie A300 Supplemental Structural Inspection Document, Revision 2, dated June 1994, on August 9, 1996 (61 FR 35122, July 5, 1996).

(6) For service information identified in this AD, contact Airbus SAS-EAW (Airworthiness Office), 1 Rond Point Maurice Bellonte, 31707 Blagnac Cedex, France; telephone +33 5 61 93 36 96; fax +33 5 61 93 44 51; e-mail account.airworth-eas@airbus.com; Internet http://www.airbus.com.

(7) You may review copies of the service information at the FAA, Transport Airplane Directorate, 1601 Lind Avenue SW., Renton, Washington. For information on the availability of this material at the FAA, call 425-227-1221.

(8) You may also review copies of the service information that is incorporated by reference at the National Archives and Records Administration (NARA). For information on the availability of this material at NARA, call 202-741-6030, or go to: http://www.archives.gov/federal_register/code_of_federal_regulations/ibr_locations.html.

Issued in Renton, Washington, on May 2, 2011.
Kalene C. Yanamura,
Acting Manager, Transport Airplane Directorate, Aircraft Certification Service.

[FR Doc. 2011-11333 Filed 5-12-11; 8:45 am]

BILLING CODE 4910-13-P